DEPARTMENT OF TRANSPORTATION

Federal Aviation Administration

Notice of Memorandum of Agreement for Replacing the Griffin—Spalding County Airport (6A2), Griffin, GA

AGENCY: Federal Aviation Administration (FAA), DOT.

ACTION: Notice of Memorandum of Agreement.

SUMMARY: The FAA has entered into a Memorandum of Agreement for replacing the Griffin—Spalding County Airport (6A2), in Griffin, Georgia with the City of Griffin, Spalding County, and the Griffin-Spalding County Airport Authority. This Agreement sets forth the parties' obligations and commitments with regard to planning and constructing a replacement airport.

DATES: December 15, 2014.

FOR FURTHER INFORMATION CONTACT: Larry F. Clark, Manager, Federal Aviation Administration, Atlanta Airports District Office, 1701 Columbia Ave., Campus Building, Suite 2-260, College Park, GA 30337.

SUPPLEMENTARY INFORMATION: On October 28, 2014, the City of Griffin and Spalding County, herein referred to as the Sponsor, and the Griffin-Spalding County Airport Authority entered into a Memorandum of Agreement (Agreement) with the FAA for replacing the Griffin-Spalding County Airport (6A2) in Griffin, Georgia. This Agreement sets forth the parties' obligations and commitments with regard to planning and constructing a replacement airport and outlines the process the parties will undertake to decommission 6A2 in the future. Prior to decommissioning 6A2, the FAA will provide notice and an opportunity for public comment as required by 49 U.S.C. 47107(h)(2).

On September 26, 2014, the Federal Aviation Administration added the proposed Griffin-Spalding County Replacement Airport to its National Plan of Integrated Airport Systems. The runway length and airport design at the existing airport are insufficient to support aviation needs. The sponsor evaluated all reasonable and practicable alternatives to address these constraints and proposed construction of the replacement airport to the FAA. The FAA issued a Finding of No Significant Impact/Record of Decision for the proposed replacement airport on March 12, 2013.

Any person may inspect, by appointment, the Agreement in person at the FAA office listed above under FOR FURTHER INFORMATION CONTACT.

In addition, any person may, upon appointment and request, inspect the Agreement, notice and other documents determined by the FAA to be related to the Agreement in person at the Griffin-Spalding County Airport, 1035 Hill Street, Griffin, GA 30224.

Issued in College Park, Georgia, on November 5, 2014.
Larry F. Clark,
Manager, FAA Atlanta Airports District Office.

[FR Doc. 2014-26800 Filed 11-12-14; 8:45 am]

BILLING CODE 4910-13-P